COMMISSION ON CIVIL RIGHTS

Agenda and Notice of Public Meeting of the Utah Advisory Committee

Notice is hereby given, pursuant to the provisions of the rules and regulations of the U.S. Commission on Civil Rights, that a meeting of the Utah Advisory Committee to the Commission will convene at 10:30 a.m. and recess at 12 p.m., on Friday, November 16, 2001, at the Sheraton Four Points, 1450 So. Hilton Drive, St. George, Utah 84770, to review regional and statewide civil rights issues, and discuss format and procedures for conducting a community forum. The Advisory Committee will reconvene for a community forum at 1:45 p.m. and adjourn at 6:30 p.m. to hear presentations from representatives of local, state, and federal agencies concerning services they provide to the minority community.

Persons desiring additional information, or planning a presentation to the Committee, should contact John Dulles, Director of the Rocky Mountain Regional Office, 303-866-1040 (TDD 303-866-1049). Hearing-impaired persons who will attend the meeting and require the services of a sign language interpreter should contact the Regional Office at least ten (10) working days before the scheduled date of the meeting.

The meeting will be conducted pursuant to the provisions of the rules and regulations of the Commission.

Dated at Washington, DC, October 11, 2001.
Ivy L. Davis,
Chief, Regional Programs Coordination Unit.

[FR Doc. 01-26223 Filed 10-17-01; 8:45 am]

BILLING CODE 6335-01-P